ENVIRONMENTAL PROTECTION AGENCY

[FRL-7211-3]

Notice of Disclosure of Confidential Business Information Obtained Under the Comprehensive Environmental Response, Compensation and Liability Act to EPA Contractor ASRC Aerospace Corp.

AGENCY: Environmental Protection Agency (EPA).

ACTION: Notice, request for comment.

SUMMARY: The U.S. Environmental Protection Agency (EPA) hereby complies with the requirements of 40 CFR 2.310 (h) for authorization to disclose to the ASRC Aerospace Corp. of Greenbelt, Maryland Superfund confidential business information (CBI) submitted to EPA Region 9.

DATES: Comments concerning CBI access will be accepted through June 13, 2002.

FOR FURTHER INFORMATION CONTACT: Peggy De La Torre, Contracting Officer, Environmental Protection Agency Mail Code: PMD8, 75 Hawthorne Street, San Francisco, CA 94105. Telephone: (415) 972-3717.

SUPPLEMENTARY INFORMATION: Under EPA contract number: 68-R9-0101, ASRC Aerospace Corp. provides EPA Region 9 San Francisco information management support services to the Environmental Protection Agency for the operation of dockets, records manage-ment support programs, and records center. In performing these tasks, ASRC Aerospace employees have access to agency documents for purposes of document processing, filing, abstracting, analyzing, inventorying, retrieving, tracking, etc. The documents to which ASRC Aerospace has access potentially includes documents submitted under the Resource Conservation and Recovery Act and Comprehensive Environmental Response, Compensation, and Liability Act. Some of these documents may contain information claimed as CBI. EPA has determined that disclosure of CBI to ASRC Aerospace is necessary in order that ASRC Aerospace may carry out the work required by the contract with EPA. The information EPA intends to disclose includes submissions from all parties related to Superfund sites. The information would be disclosed to ASRC for any of the following reasons: To assist with the operation of dockets, records management support programs, document handling, inventory of records, and indexing. The contract complies with all requirements of 40 CFR 2.301(h)(2)(ii), incorporated by reference into 40 CFR 2.310(h)(2). EPA Region 9 requires that each ASRC employee sign a written agreement that he or she: (1) Will use the information only for the purpose of carrying out the work required by the contract, (2) shall refrain from disclosing the information to anyone other than EPA without prior written approval of each affected business or of an EPA legal office, and (3) shall return to EPA all copies of the information (and any abstracts or extracts therefrom) upon request from the EPA program office, whenever the information is no longer required by ASRC for performance of the work required by the contract or upon completion of the contract.

Dated: March 22, 2002.
Jane Diamond,
Acting Director, Superfund Division, Region IX.

[FR Doc. 02-12146 Filed 5-15-02; 8:45 am]

BILLING CODE 6560-50-P